COMMISSION ON CIVIL RIGHTS

Agenda and Notice of Public Meeting of the Utah Advisory Committee

Notice is hereby given, pursuant to the provisions of the rules and regulations of the U.S. Commission on Civil Rights, that a meeting of the Utah Advisory Committee to the Commission will convene at 6 p.m. and adjourn at 8 p.m. on Thursday, June 22, 2000, at the Horizonte School, 1234 So. Main Street, Salt Lake City, Utah 84101. The purpose of the meeting is to discuss civil rights issues in the State and plan future activities.

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, May 19, 2000.
Lisa M. Kelly,
Special Assistant to the Staff Director, Regional Programs Coordination Unit.

[FR Doc. 00-13214 Filed 5-25-00; 8:45 am]

BILLING CODE 6335-01-P